DEPARTMENT OF EDUCATION

[Docket No.: ED-2020-SCC-0038]

High School and Beyond 2021 (HS&B:21) Base-Year Full-Scale Study Data Collection; Correction

AGENCY: Institute for Education Sciences, National Center for Education Statistics (IES/NCES), Department of Education (ED).

ACTION: Correction notice.

SUMMARY: The PRA Coordinator, Strategic Collections and Clearance, Office of the Chief Data Officer, Office of Planning, Evaluation and Policy Development, hereby issues a correction notice as required by the Paperwork Reduction Act of 1995.

SUPPLEMENTARY INFORMATION: On November 30, 2020, the U.S. Department of Education published a 30-day comment period notice in the Federal Register with FR DOC# 2020-26269 (Page 76545, Column 2, Column 3; Page 76546, Column 1) seeking public comment for an information collection entitled, “High School and Beyond 2021 (HS&B:21) Base-Year Full-Scale Study Data Collection”. The tile is incorrect. The title should be High School and Beyond 2022 (HS&B:22) Base-Year Full-Scale Data Collection Year Delay Change Request. The abstract is incorrect. The correct abstract should read as follows.

The High School and Beyond 2022 study (HS&B:22) will be the sixth in a series of longitudinal studies at the high school level conducted by the National Center for Education Statistics (NCES), within the Institute of Education Sciences (IES) of the U.S. Department of Education. HS&B:22 will follow a nationally representative sample of ninth grade students from the start of high school in the fall of 2022 to the spring of 2026 when most will be in twelfth grade. A field test will be conducted one year prior to the full-scale study. The study sample will be freshened in 2026 to create a nationally representative sample of twelfth-grade students. A high school transcript collection and additional follow-up data collections beyond high school are also planned. In preparation for the HS&B:20 Base-Year Full-Scale study (BYFS), originally scheduled to take place in the fall of 2020, the Office of Management and Budget (OMB) approved (OMB #1850-0944 v.1-5) requests to conduct the HS&B:20 Base-Year Field Test (BYFT) and the BYFS sampling and state, school district, school, and parent recruitment activities, both of which began in the fall of 2019. These activities include collecting student rosters and selecting the BYFS sample. BYFT activities ended in December 2019. A 60-day review of the full Base-Year Full-Scale Data Collection package was completed between February and April 2020. In the middle of that 60-day review, due to the COVID-19 pandemic, NCES decided to postpone this collection for one year, to Fall 2021, and updated the study documentation appropriately for the 30-day review. OMB provided approval to the new package, with the 2021 schedule, in October 2020 (OMB #1850-0944 v.7). Due to continued burden on schools due to the ongoing COVID-19 pandemic, NCES has decided to further delay the BYFS study data collection to Fall 2022. This submission addresses that delay and amends the previously approved package to update it with these new plans.

This submission includes all pieces of the High School and Beyond 2022 (HS&B:22) Base-Year Full-Scale Study Data Collection package. The primary purpose of this change request is to add new communication materials to immediately send to states, schools, and districts that have already agreed to participate in the HS&B Main Study, notifying those interested parties of the additional one-year delay. This request does not affect the approved total cost to the federal government for conducting this study nor the estimated respondent burden.

Dated: December 1, 2020.
Stephanie Valentine,
PRA Coordinator, Strategic Collections and Clearance, Office of the Chief Data Officer, Office of Planning, Evaluation and Policy Development.

[FR Doc. 2020-26705 Filed 12-3-20; 8:45 am]

BILLING CODE 4000-01-P